DEPARTMENT OF TRANSPORTATION

Pipeline and Hazardous Materials Safety Administration

[Docket No. PHMSA-2022-0052 (Notice No. 2022-11)]

Hazardous Materials: Information Collection Activities

AGENCY: Pipeline and Hazardous Materials Safety Administration (PHMSA), Department of Transportation (DOT).

ACTION: Notice and request for comments.

SUMMARY: In accordance with the Paperwork Reduction Act of 1995, PHMSA invites comments on information collections pertaining to hazardous materials transportation for which PHMSA intends to request renewal and extension from the Office of Management and Budget. Additionally, we note that on May 3, 2022, a notice with a 60-day comment period soliciting comments on these information collections was published in the Federal Register, and PHMSA did not receive any comments on it.

DATES: Interested persons are invited to submit comments on or before August 17, 2022.

ADDRESSES: Written comments and recommendations for the information collections should be sent within 30 days of publication of this notice to www.reginfo.gov/public/do/PRAMain. Find these particular information collections by selecting “Currently under 30-day Review—Open for Public Comments” or by using the search function.

We invite comments on: (1) whether the collections of information are necessary for the proper performance of the functions of the Department, including whether the information will have practical utility; (2) the accuracy of the Department's estimate of the burden of the information collections; (3) ways to enhance the quality, utility, and clarity of the information to be collected; and (4) ways to minimize the burden of the collection of information on respondents, including the use of automated collection techniques or other forms of information technology.

Docket: For access to the Dockets to read background documents or comments received, go to http://www.regulations.gov.

FOR FURTHER INFORMATION CONTACT: Steven Andrews or T. Glenn Foster, Standards and Rulemaking Division, (202) 366-8553, Pipeline and Hazardous Materials Safety Administration, U.S. Department of Transportation, 1200 New Jersey Avenue SE, Washington, DC 20590-0001.

SUPPLEMENTARY INFORMATION: Section 1320.8 (d), title 5, Code of Federal Regulations (CFR) requires PHMSA to provide interested members of the public and affected agencies an opportunity to comment on information collection and recordkeeping requests. This notice identifies information collection requests PHMSA previously published in a 60-day notice ¹ seeking comments and is now submitting to the Office of Management and Budget (OMB) for renewal and extension.

¹ See the 60-day notice published under Docket No. PHMSA-2022-0052 (Notice No. 2022-09), on May 3, 2022 [87 FR 26259] at: https://www.federalregister.gov/documents/2022/05/03/2022-09408/hazardous-materials-information-collection-activities.

These information collections are contained in 49 CFR 171.6 of the Hazardous Materials Regulations (HMR; 49 CFR parts 171 through 180). PHMSA has revised burden estimates, where appropriate, to reflect current reporting levels or adjustments based on changes in proposed or final rules published since the information collection was last approved. The following information is provided for each information collection: (1) title of the information collection, including former title if a change is being made; (2) OMB control number; (3) summary of the information collection activity; (4) description of affected public; (5) estimate of total annual reporting and recordkeeping burden; and (6) frequency of collection. PHMSA will request a 3-year term of approval for the information collection activity and will publish a notice in the Federal Register alerting the public to OMB's approval.

PHMSA requests comments on the following information collection:

Title: Radioactive (RAM) Transportation Requirements.

OMB Control Number: 2137-0510.

Summary: This information collection consolidates and describes the information collection provisions in the HMR involving the transportation of radioactive materials in commerce. Information collection requirements for RAM include: documenting testing and engineering evaluations for packages, documenting DOT 7A packages, revalidating foreign competent authority certifications, providing specific written instruction of exclusive use shipment controls, providing written instructions for exclusive use shipment controls, obtaining U.S. competent authority for package design, registering with U.S. competent authority as user of a package, and requesting a U.S. competent authority for a special form of radioactive material. The following information collections and their burdens are associated with this OMB Control Number:

Information collection | Respondents | Total annual responses | Hours per response | Total annual burden hours
Document Test and Engineering Evaluation or Comparative Data for Packaging—Reporting | 50 | 100 | 40 | 4,000
DOT Specification 7A Package Documentation—Reporting | 50 | 100 | 80 | 8,000
DOT Specification 7A Package Documentation—Recordkeeping | 50 | 500 | 0.0833 | 41.67
Revalidation of Foreign Competent Authority Certification—Reporting | 25 | 25 | 80 | 2,000
Offeror Providing Specific Written Instruction of Exclusive Use Shipment Controls to the Carrier—Reporting | 100 | 2,000 | 0.5 | 1,000
Offeror Obtaining U.S. Competent Authority for Package Design—Reporting | 10 | 40 | 2 | 80
Register with U.S. Competent Authority as User of a Package—Reporting | 25 | 50 | 0.5 | 25
Request for a U.S. Competent Authority as Required by the IAEA Regulations for Special Form—Reporting | 10 | 100 | 2 | 200

Affected Public: Shippers and carriers of radioactive materials in commerce.

Annual Reporting and Recordkeeping Burden

Number of Respondents: 320.

Total Annual Responses: 2,915.

Total Annual Burden Hours: 15,346.67.

Frequency of Collection: On occasion.

Title: Subsidiary Hazard Class and Number/Type of Packagings.

OMB Control Number: 2137-0613.

Summary: The HMR require that shipping papers and emergency response information accompany each shipment of hazardous materials in commerce. Shipping papers serve as a principal means of identifying hazardous materials during transportation emergencies. Firefighters, police, and other emergency response personnel are trained to obtain the DOT shipping papers and emergency response information when responding to hazardous materials transportation emergencies. The availability of accurate information concerning hazardous materials being transported significantly improves response efforts in these types of emergencies.

In addition to the basic shipping description information on shipping papers, we also require the subsidiary hazard class or subsidiary division number(s) to be entered in parentheses following the primary hazard class or division number on shipping papers. This requirement was originally required only by transportation by vessel. However, the lack of such a requirement posed problems for motor carriers regarding compliance with segregation, separation, and placarding requirements, as well as posing a safety hazard. For example, in the event the motor vehicle becomes involved in an accident, when the hazardous materials being transported include a subsidiary hazard such as “dangerous when wet” or a subsidiary hazard requiring more stringent requirements than the primary hazard, there is no indication of the subsidiary hazards on the shipping papers and no indication of the subsidiary risks on placards. Under circumstances such as motor vehicles being loaded at a dock, labels are not sufficient to alert hazardous materials employees loading the vehicles, nor are they sufficient to alert emergency responders of the subsidiary risks contained on the vehicles. Therefore, we require the subsidiary hazard class or subsidiary division number(s) to be entered on the shipping paper for purposes of enhancing safety and international harmonization.

The following information collection and burden is associated with this OMB Control Number:

Information collection | Respondents | Total annual responses | Seconds per response | Total annual burden hours
Subsidiary Hazard Class on Shipping Papers | 260,000 | 43,810,000 | 2 | 24,339

Affected Public: Shippers and carriers of hazardous materials in commerce.

Annual Reporting and Recordkeeping Burden

Number of Respondents: 260,000.

Total Annual Responses: 43,810,000.

Total Annual Burden Hours: 24,339.

Frequency of Collection: On occasion.

Issued in Washington, DC, on July 13, 2022.
Shane C. Kelley,
Director, Standards and Rulemaking,Office of Hazardous Materials Safety,Pipeline and Hazardous Materials Safety Administration.

[FR Doc. 2022-15252 Filed 7-15-22; 8:45 am]

BILLING CODE 4910-60-P